DEPARTMENT OF COMMERCE

National Oceanic and Atmospheric Administration

[RTID 0648-XA359]

North Pacific Fishery Management Council; Public Meeting

AGENCY: National Marine Fisheries Service (NMFS), National Oceanic and Atmospheric Administration (NOAA), Commerce.

ACTION: Notice of webconference.

SUMMARY: The Economic Data Reporting (EDR) Stakeholder Discussion will be held on August 26, 2020.

DATES: The meeting will be held on Wednesday, August 26, 2020, from 2 p.m. to 4 p.m., Alaska Time.

ADDRESSES: The meeting will be a webconference. Join online through the link at https://npfmc.adobeconnect.com/edr.

Council address: North Pacific Fishery Management Council, 1007 W 3rd Ave., Anchorage, AK 99501-2252; telephone: (907) 271-2809. Instructions for attending the meeting are given under SUPPLEMENTARY INFORMATION, below.

FOR FURTHER INFORMATION CONTACT: Sarah Marrinan, Council staff; email: sarah.marrinan@noaa.gov. For technical support please contact our administrative staff; email: npfmc.admin@noaa.gov.

SUPPLEMENTARY INFORMATION:

Agenda

Wednesday, August 26, 2020

The August EDR Stakegholder meeting will facilitate discussion to generate ideas for improving the utility of the EDRs, increasing consistency and minimizing burden. The agenda is subject to change, and the latest version will be posted at https://meetings.npfmc.org/Meeting/Details/1564 prior to the meeting, along with meeting materials.

Connection Information

You can attend the meeting online using a computer, tablet, or smart phone; or by phone only. Connection information will be posted online at: https://meetings.npfmc.org/Meeting/Details/1564.

Public Comment

Public comment letters will be accepted and should be submitted electronically to https://meetings.npfmc.org/Meeting/Details/1564.

Special Accommodations

The meetings are physically accessible to people with disabilities. Requests should be directed to Shannon Gleason at (907) 903-3107 at least 7 working days prior to the meeting date.

Authority: 16 U.S.C. 1801 et seq.

Dated: August 4, 2020.
Tracey L. Thompson,
Acting Deputy Director, Office of Sustainable Fisheries, National Marine Fisheries Service.

[FR Doc. 2020-17289 Filed 8-6-20; 8:45 am]

BILLING CODE 3510-22-P